POSTAL SERVICE

39 CFR Part 501

Authorization To Manufacture and Distribute Postage Meters

AGENCY: Postal Service.

ACTION: Proposed rule.

SUMMARY: Only manufacturers and distributors authorized by the Postal Service are allowed to manufacturer and/or distribute postage meters. This proposed rule notifies them that the Postal Service may revoke or suspend, wholly or in part, their authorization to distribute postage meters if they make or distribute false and misleading statements about actions or proposed actions of the Postal Service regarding the postage meter program.

DATES: The Postal Service must receive your comments on or before December 22, 2003.

ADDRESSES: Mail or deliver written comments to Manager, Postage Technology Management, 1735 N Lynn Street, Room 5011, Arlington, VA 22209-6370. You can view and copy all written comments at the same address between 9 a.m. and 4 p.m., Monday through Friday.

FOR FURTHER INFORMATION CONTACT: Wayne Wilkerson, manager of Postage Technology Management, at 703-292-3691 or by fax at 703-292-4073.

SUPPLEMENTARY INFORMATION: The intentional dissemination of false and misleading communications, advertising, or promotional materials that misrepresent actions or proposed actions of the Postal Service is misleading and confusing to customers of the Postal Service. These false and misleading statements are often made to encourage customers to change from one postage meter or postage meter supplier to another. If the Postal Service identifies such practices, it will take appropriate action to notify law enforcement agencies concerned with false and misleading advertising practices and will take action to publish the deceptive communications or advertising with appropriate corrective statements. In addition, by the proposed rule, the Postal Service is providing notice to authorized postage meter manufacturers and distributors that their approval to distribute meters throughout the United States or any part thereof may be jeopardized if the Postal Service determines that they or their employees, agents, or dealers have engaged in such false and misleading communication or advertising practices. If an authorized manufacturer or distributor is in doubt as to the accuracy of any proposed representation concerning actions or proposed actions of the Postal Service, they are invited to verify the accuracy of the representation with the office of Postage Technology Management.

We will review any public comments and will issue a final rule amending these sections.

Notice and Comment

Although exempt from the notice and comment requirements of the Administrative Procedure Act (5 U.S.C. 553(b), (c)) regarding proposed rulemaking by 39 U.S.C. 410(a), the Postal Service invites public comments on the following proposed amendments to the Code of Federal Regulations (CFR).

List of Subjects in 39 CFR Part 501

Administrative practice and procedure, Postal Service.

For the reasons set out in this document, the Postal Service is proposing to amend 39 CFR part 501 as follows:

PART 501—AUTHORIZATION TO MANUFACTURE AND DISTRIBUTE POSTAGE METERS

1. The authority citation for part 501 continues to read as follows:

Authority: 5 U.S.C. 552(a); 39 U.S.C. 101, 401, 403, 404, 410, 2601, 2605; Inspector General Act of 1978, as amended (Public Law 95'452, as amended); 5 U.S.C. App. 3.

2. Redesignate current §§ 501.23 through 501.30 as §§ 501.24 through 501.31 and add new § 501.23 to read as follows:

§ 501.23 Communications.

Authorized manufacturers, distributors, and any agents of an authorized manufacturer or distributor must not intentionally misrepresent to customers of the Postal Service decisions, actions, or proposed actions of the Postal Service respecting the postage meter program. The Postal Service reserves the right to suspend and/or revoke the authorization to manufacture and/or distribute postage meters throughout the United States or any part thereof under Sec. 501.5 when the manufacturer, distributor, or any agent of a manufacturer or distributor fails to comply with this requirement.

We will publish an appropriate amendment to 39 CFR part 501 to reflect these changes if the proposal is adopted.

Stanley F. Mires,
Chief Counsel, Legislative.

[FR Doc. 03-28958 Filed 11-19-03; 8:45 am]

BILLING CODE 7710-12-P